DEPARTMENT OF DEFENSE

Department of the Army

Draft Environmental Impact Statement (DEIS) for Training Range and Garrison Support Facilities Construction and Operation at Fort Stewart, GA

AGENCY: Department of the Army, DoD.

ACTION: Notice of Availability (NOA).

SUMMARY: The Department of the Army has prepared a DEIS to analyze the environmental and socioeconomic impacts resulting from the proposed construction of 12 range projects and 2 garrison support facilities at Fort Stewart, Georgia. Completion of these projects will better allow the Army to support Soldier training requirements and will support Fort Stewart's existing and future units. Construction of these projects will help to ensure Fort Stewart can meet unit training requirements if and when the pace of operational deployments slows.

DATES: The public comment period will end 45 days after the publication of an NOA in the Federal Register by the U.S. Environmental Protection Agency.

ADDRESSES: For further information regarding the EIS, please contact Mr. Charles Walden, Project Manager, Directorate of Public Works, Prevention and Compliance Branch, Environmental Division, 1550 Frank Cochran Drive, Building 1137-A, Fort Stewart, Georgia 31314-4928. Written comments may be mailed to this address or e-mailed to Charles.Walden4@us.army.mil.

FOR FURTHER INFORMATION CONTACT: Ms. Dina McKain, Public Affairs Office, at (912) 435-9874 during normal business hours.

SUPPLEMENTARY INFORMATION: To meet the needs of the Soldiers at Fort Stewart, additional ranges and garrison support facilities are required. This DEIS examines the potential environmental and socioeconomic impacts of the construction and operation of 12 ranges and 2 garrison support facilities to be constructed over a 4-year time period. It also examines potential impacts to surrounding lands and/or local communities.

The DEIS evaluates the following: A Multipurpose Machine Gun Range, an Infantry Platoon Battle Course, a Known Distance Range, two Modified Record Fire Ranges, a Qualification Training Range, an Infantry Squad Battle Course, a Fire and Movement Range, a Digital Multipurpose Training Range, a 25 Meter Zero Range, a Combat Pistol Range, and a Convoy Live-Fire Course and associated engagement boxes. The Garrison Support Facilities are a Sky Warrior Unmanned Aerial System (UAS) facility and a 10th Engineering Battalion Complex, which would be constructed in the cantonment area.

Three alternatives are considered: Alternative A—No Action, and two action alternatives (Alternatives B and C). The No Action Alternative is to continue the current mission and support activities already occurring at Fort Stewart. The action alternatives would greatly enhance Soldier training and overall unit readiness. Alternatives B and C offer different sitings for the ranges and garrison support facilities. Specified screening criteria were applied to each alternative to ascertain and rate the impact, from both an environmental and an operational perspective. Where possible, Alternative B sites tend to utilize footprints of existing ranges, limit the isolation of useful maneuver terrain, be located in relative close proximity to the cantonment area for operational tempo, and utilize the existing impact area without creating any new impact areas. Alternative C sites tend to locate ranges on new ground where there has not been a range in the past. Alternative C sites also have a greater impact on training, range operation, off-site noise, and environmental resources. Overall, Alternative B will not have as severe an environmental impact as Alternative C, although some individual sites may. After consideration of all anticipated operational and environmental impacts, Alternative B is the Army's preferred alternative.

Impacts are analyzed for a wide range of environmental resource areas including, but not limited to, air quality, noise, water resources, biological resources (to include protected species), cultural resources, socioeconomics, infrastructure (utilities and transportation), land use, solid and hazardous materials/waste, and cumulative environmental effects. No significant impacts are anticipated on any of these environmental resources.

The Army invites the public to comment on the DEIS and to participate in public meetings which will be announced in local news media. The DEIS is available at local libraries surrounding Fort Stewart and the document may also be accessed at http://www.Fortstewart-mmp.eis.com. Comments from the public will be considered before any decision is made regarding implementing the proposed action at Fort Stewart.

Dated: March 19, 2010.
Addison D. Davis, IV,
Deputy Assistant Secretary of the Army (Environment, Safety and Occupational Health).

[FR Doc. 2010-7452 Filed 4-2-10; 8:45 am]

BILLING CODE 3710-08-P